DEPARTMENT OF EDUCATION

RIN 1830-ZA05

Community Technology Centers Program

AGENCY: Office of Vocational and Adult Education, Department of Education.

ACTION: Notice of final requirements, priorities, and selection criteria for novice and non-novice applicants for the Community Technology Centers program.

SUMMARY: The Assistant Secretary for Vocational and Adult Education announces final requirements, priorities, and selection criteria under the Community Technology Centers (CTC) program. The Assistant Secretary may use one or more of these requirements, priorities, and selection criteria for competitions in FY 2004 and competitions to be conducted in later years.

We establish these final requirements, priorities, and selection criteria to further the purpose of the CTC program, which is to assist eligible applicants to create or expand community technology centers that provide disadvantaged residents of economically distressed urban and rural communities with access to information technology and related training.

EFFECTIVE DATE: These final requirements, priorities, and selection criteria are effective May 17, 2004.

FOR FURTHER INFORMATION CONTACT: Karen Holliday, U.S. Department of Education, OVAE, 400 Maryland Avenue, SW., Washington, DC 20202-7110. Telephone: (202) 245-7708 or via Internet at karen.holliday@ed.gov.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION:

Background

The Community Technology Centers program is authorized under Title V, Part D, Subpart 11, Sections 5511-13 of the Elementary and Secondary Education Act of 1965 (ESEA) (20 U.S.C. 7263-7263b), as amended by Public Law 107-110, the No Child Left Behind Act of 2001.

The No Child Left Behind Act of 2001 is the most sweeping reform of Federal education policy in a generation. It is designed to implement the President's agenda to improve America's public schools by: (1) Ensuring accountability for results, (2) providing unprecedented flexibility in the use of Federal funds in implementing education programs, (3) focusing on proven educational methods, and (4) expanding educational choice for parents. Since the enactment of the original ESEA in 1965, the Federal Government has spent more than $130 billion to improve public schools. Unfortunately, this investment in education has not yet eliminated the achievement gap between affluent and lower-income students or between minority students and non-minority students. One of the purposes of the CTC program is to address these gaps by providing students with access to information technology and related training.

We published a notice of proposed requirements, priorities, and selection criteria in the Federal Register on February 2, 2004 (69 FR 5000).

In that notice, we discussed (on pages 5000 through 5003) our proposed requirements, priorities, and selection criteria for the FY 2004 CTC competition and competitions to be conducted in later years. Except for two changes to Priority 1, which we explain in the Analysis of Comments and Changes section, and minor editorial and technical revisions, there are no differences between the notice of proposed requirements, priorities, and selection criteria, and this notice of final requirements, priorities, and selection criteria.

Analysis of Comments and Changes

In response to our invitation in the notice of proposed requirements, priorities, and selection criteria, nine parties submitted comments. An analysis of the comments and of any changes in the proposed requirements, priorities, or selection criteria since we published the notice follows.

We have grouped major issues by subject. Generally, we do not address technical and other minor, non-substantive changes and suggested changes that the law does not authorize us to make under the applicable statutory authority.

Definitions

Comments: One commenter sought clarification regarding the definition of a “community-based organization” (CBO) and whether a community college is considered a CBO.

Discussion: Section 5512(a) of the ESEA includes among the types of applicants eligible to apply for a CTC award a “community-based organization” and an “institution of higher education.” Community colleges are considered institutions of higher education, rather than community-based organizations. Section 9101(6) of the ESEA defines a community-based organization to mean “a public or private nonprofit organization of demonstrated effectiveness that—(A) is representative of a community or significant segments of a community; and provides educational or related services to individuals in the community.” Under the CTC program a community college could apply directly for an award as an “institution of higher education”, but it could not otherwise serve as a “community-based organization” in an application filed by another eligible entity. For example, a community college could not play the required role of one of the entities in partnership with an applicant under Priority 1.

Changes: None.

Access to Comments and Information

Comments: One commenter expressed concern regarding the posting of public comments and inquired whether they are posted online or could be posted online for all to see and not just for those who can physically travel to DC to view them.

Discussion: The Department does not have an electronic docket system so it is not possible currently for us to post comments online in a systematic manner. We will be developing such a system in the future as part of a Federal government wide initiative on electronic rulemaking. A summary of the public comments, and our responses, are contained in this notice which will be published in the Federal Register and can be electronically accessed in text or Adobe Portable Document Format (PDF) on the Internet at the following site: http:/www.ed.gov/news/fedregister.

Changes: None.

Comments: Commenters suggested that the Department make available on its Web site information concerning instructional strategies that have proven effective and evidence-based model programs that could be adopted or replicated locally in an effort to assist applicants. Another commenter also suggested that the Department consider working with intermediate organizations, whether they be state, local or regional, to better identify and target resources and technical assistance where need is greatest and to support and disseminate the good work that has already been accomplished as widely as possible.

Discussion: The Department's Web site provides information on practices that can improve student performance at http://www.ed.gov/teachers/landing.jhtml?src=fp. The Office of Vocational and Adult Education will continue to update the Web site as additional information becomes available. Through the Department's technical assistance provider, grantees can access information specific to issues surrounding CTCs at http://www.americaconnects.net.

Changes: None.

Matching Requirement

Comments: One commenter sought clarification regarding the matching requirement of cash or in-kind support of at least 50% from non-Federal sources towards total project costs. Two commenters expressed concern that some organizations and LEAs may have difficulty raising the required minimum match of $250,000 and asked whether the Department is aware of any instances where entities had difficulties providing the required match.

Discussion: The statute requires that Federal funds may not be used to pay for more than 50 percent of a CTC project's total costs. As an example, if a CTC applicant requests $250,000 in Federal funds (the mandatory minimum request) for its project, the applicant must have available or obtain at least $250,000 in cash or in kind from non-Federal sources. Through our experience with the CTC program since 1999, we have discovered that, in order to provide significant increased access to technology at the local level, CTC projects must be adequately funded.

We believe that the minimum award threshold, coupled with the applicant's mandatory match, will ensure the applicant's ability to be effective. We have taken into account the ability of applicants to raise funds and therefore, in the notice of proposed requirements, priorities, and selection criteria, proposed to lower the minimum required match that was required in FY 2003 from $300,000 to $250,000 for FY 2004. We are adopting that change in this notice. Additionally, if an applicant desires to draw non-Federal funds from a variety of other resources, it could do so by entering into a group application with other eligible entities in accordance with 34 CFR 75.127-129.

Changes: None.

Use of Funds

Comments: One commenter asked that at least a portion of the FY 2004 funds be made available for adult education program activities that do not include a mandatory program to reach disadvantaged secondary school students. The commenter recommended that if the Department uses absolute priorities for the FY 2004 program, some of the funding should be reserved for either proposed Priority 3 or Priority 4 programs. Additionally, another commenter suggested that the Department broaden the scope of the CTC program to include greater family involvement and learning and specifically to provide support for single parents through such areas as life skills enhancement and lifelong learning opportunities.

Discussion: Section 5513(a) of the ESEA requires that grant recipients use funds for “(1) creating or expanding community technology centers that expand access to information technology and related training for disadvantaged residents of distressed urban and rural communities”. Serving disadvantaged students as well as other members of the disadvantaged community is mandatory. With respect to the commenter's recommendation that funding be reserved for either proposed Priority 3 or Priority 4 should the Department use absolute priorities, we offer the following. Elsewhere in this issue of the Federal Register, we are publishing a notice inviting applications for new awards for this program for FY 2004 in which we establish the priorities to be used in the FY 2004 competition. To the extent that we do not use Priorities 3 and 4 in the FY 2004 competition, applicants may include services for adult learners as well as family literacy activities as part of their overall program, as long as they meet the other requirements and priorities set forth in the notice inviting applications. With respect to the commenter's suggestion to broaden the scope toward greater family involvement and learning, we agree that the family has a significant impact on the educational development of low and under-achieving students. Applicants may want to structure their project designs to include more family involvement consistent with the CTC program's statutory purpose. We cannot, however, prescribe a scope of format for family involvement that applicants must follow.

Changes: None.

Allowable Use of Funds

Comments: One commenter indicated that in an effort to support learning and program outreach, food purchases should be an allowable use of Federal funds at a minimum for outreach meetings, refreshments, and after-school snacks.

Discussion: While we recognize that there are a variety of ways to support learning and program outreach, Section 5513(b) of the ESEA does not allow Federal funds to be used for the purchase of food.

Changes: None.

Mandatory Services for High School Students

Comments: Several commenters expressed concerns with the requirement that projects must serve students who are entering or enrolled in grades 9 through 12. One commenter further recommended that, unless the 9th through 12th grade requirement is legislatively mandated, the Department should eliminate the requirement, as the commenter stated that “good centers” should improve the academic skills of children of all ages. As an alternative, the commenter suggested the Department have a requirement that applicants offer programs for those in the 9th through 12th grades and that their management plans be reflective of the intended program.

Discussion: We recognize the need to ensure that children of all ages improve their academic skills. However, we are especially concerned about issues relating to the academic achievement of high school students. As a result, through Priority 2, we may give priority to applications focused on improving the academic achievement of low-achieving high school students while not neglecting members of the disadvantaged community as a whole.

Changes: None.

Additional Credit for Past Performance

Comments: One commenter recommended that the priorities provide for the award of additional points to applicants that meet the requirements set forth therein and also have prior experience in implementing a CTC project. The commenter further recommended that additional or “priority” points be given to applicants that have projects in underserved areas. Under this proposal, the award of such additional points would become part of the selection criteria for the CTC program.

Discussion: While we recognize the value of the experience and accomplishments of previous grantees, the Department does not regard it as necessary to award extra points for past applicants. All projects funded under this program by law must serve disadvantaged residents of economically distressed communities.

Changes: None.

Program Impact

Comments: One commenter suggested that the Department may need to articulate more specifically the Secretary's intent for a systematic approach to enhancing and improving education through community learning while also increasing parental involvement and community participation. Similarly, the commenter suggested that it might be helpful to applicants if the Department established a general framework for evaluation and assessment of program effectiveness and impact.

Discussion: With regard to the commenter's concern for the Department to articulate the Secretary's intent for a systematic approach to enhancing and improving education through community learning, Priority 2 and the Need for the Project criterion under the Selection Criteria address this matter in detail. With respect to the commenter's request for the Department to establish a general framework for evaluation and assessment of program effectiveness and impact, such guidance is provided to grantees by the Department through its technical assistance provider. We have further developed a set of performance measures for the program. These performance measures are provided in the notice inviting applications.

Changes: None.

Comments: One commenter expressed concern regarding the Need for the Project criterion in the selection criteria. The commenter suggested that the scope of the disadvantaged population and audience include persons with, and the families of persons with, disabilities and English as a second language needs.

Discussion: We agree that persons with disabilities and those for whom English is a second language may require and can benefit from services that may be offered through a CTC project. We encourage applicants to demonstrate such a need in the Need for the Project section of the application.

Changes: None.

Comments: One commenter suggested that, in an effort to reduce potential costs or increase potential benefits to applicants, the Department develop one standard online application for everyone to complete, thereby reducing the amount of paperwork.

Discussion: In an effort to reduce paperwork and applicant burden, we are utilizing e-Application for the CTC grant competition.

Changes: None.

Eligibility

Comments: We received a number of comments about eligibility under the CTC program and the requirements of Priority 1. One commenter sought clarification regarding the wording of “partnership between a community-based organization and a local educational agency” as described in the first paragraph under Proposed Priority 1 and also asked the Department to clarify the statement “LEAs are eligible under the CTC program, but an individual public school is not an eligible applicant.” Another commenter also sought clarification regarding an individual public school not being considered an eligible applicant. The commenter indicated that an individual school is just as capable as a charter or private school of fulfilling the role set forth in the educational agency partnership.

A third commenter expressed concern that an individual public high school would have access to information necessary to identify students who are most in need of academic support and to ensure that the project's goals and objectives are consistent with the CTC program. The commenter stated that this contention justifies allowing an individual school to make application for the CTC program.

Discussion: We take this opportunity to clarify which entities are eligible to apply for grants under this program and how eligible applicants must meet the requirements under Priority 1.

Pursuant to the statute, the following entities are eligible to submit applications for the CTC program—(a) an entity, such as a foundation, museum, library, for-profit business, public or private nonprofit organization or community-based organization (including faith-based organizations), (b) an institution of higher education, (c) a State educational agency (SEA), (d) a local educational agency (LEA), or (e) a consortium of such entities, institutions, or agencies. With respect to individual schools, under these statutory provisions, a charter school that meets its State's definition of LEA is an eligible applicant. A private school also is an eligible applicant. However, an individual public school is not an eligible applicant. Thus, although we agree that the individual public school can play an integral role in the execution of a CTC program, the law does not permit an individual public school to apply for a grant under the CTC program. Instead the law makes LEAs, rather than individual public schools, eligible applicants.

The fact that an individual public school is not eligible to apply for a grant does not mean that it cannot participate in a CTC project with an eligible applicant. We had proposed in the notice of proposed requirements, priorities, and selection criteria to establish Priority 1—a priority for projects that included a partnership between a community-based organization (CBO) and an LEA. Based on the comments received and our own internal review, we are clarifying in Priority 1 that the partnership must be between a CBO, on the one hand, and an LEA (including a charter school that meets its State's definition of an LEA), or a public school or a private school, on the other hand. We did not intend to exclude private schools and individual public schools from this priority. Accordingly, if a CBO applies for a grant under Priority 1, its project must propose a partnership with an LEA (including a charter school that meets its State's definition of an LEA), or a public school or a private school. If an LEA (including a charter school that meets its State's definition of an LEA) or a private school applies for a grant under Priority 1, its project must propose a partnership with a CBO. Because of the general eligibility restrictions in the law, an individual public school cannot submit an application for the CTC program; its role under Priority 1 is limited solely to being a partner with a CBO under an application filed by any eligible applicant.

Changes: Yes. We are making these changes to Priority 1.

Comments: One commenter indicated that Priority 1 should not require partnerships between LEAs and CBOs, as this would stifle innovation and program effectiveness. The commenter further stated that allowing institutions to deliver effective services and programs voluntarily in partnership with one another would encourage a better informed knowledge base for “the broader field” and help to deliver on the promise of flexibility and innovation at the local level.

Discussion: We have determined that the participation of both CBOs and LEAs (including a charter school that meets its State's definition of an LEA), or a public school or a private school, pursuant to the clarifications we are making to Priority 1, is critical to the success of CTC projects. Many academic support programs for adolescents report that securing and maintaining a high level of student participation can be challenging. Involving CBOs in service delivery will help projects better master this challenge, such as by providing expanded outreach and support to students, joint programming, or alternative services sites that are in or near the neighborhoods where students live. LEAs (including a charter school that meets its State's definition of an LEA), or a public school or a private school also are essential participants. Their involvement is needed to identify the students who are most in need of academic support and to ensure that the project's curriculum, assessment, and instructional practices are consistent with those of the schools the students attend.

Changes: None.

Priorities

Comments: One commenter indicated that it was unclear in the notice of proposed requirements, priorities, and selection criteria whether the four proposed priorities are absolute priorities and how the funds would be distributed between them. The commenter also indicated that the priorities did not appear to be in alignment with the descriptions provided under the selection criteria sections, Need for the Project and Quality of the Project Design. The commenter then suggested that, if the project is to support adult learners and career development needs, the two descriptions would need to be expanded to include criteria related to the respective populations.

Discussion: As indicated in the notice of proposed requirements, priorities, and selection criteria, we will designate the priorities as absolute, competitive preference, or invitational in a notice inviting applications for new awards. The decision how to use them is made each year, see 34 CFR 75.105. After considering the proposed comment, the Secretary believes no action or change strengthening the priorities is necessary. The notice inviting applications for new awards for FY 2004, including the designation of priorities, is published elsewhere in this issue of the Federal Register.

Changes: None.

Comments: One commenter expressed concern that the focus of the CTC program should be not only on the increased academic achievement of low-achieving high school students but also on enrichment activities for high school students.

Discussion: Although Priority 2 focuses on increased academic achievement of low-achieving high schools, recipients also may use grant funds for academic enrichment activities pursuant to Section 5513 (b)(3)(A) of the ESEA.

Changes: None.

Funding

Comments: One commenter recommended the Department restore its funding and programmatic scope to a multi-year cycle that includes the award of smaller multi-year grants rather using a one-year grant cycle.

Discussion: While the Department recognizes that a multi-year cycle would allow additional time for grantees to implement and evaluate the effectiveness of their projects, the Department has not requested funds for the CTC program for 2005 and, therefore, does not want to commit a project to several years of funding and staffing without assurance of continued support.

Changes: None.

Comments: One commenter expressed concern regarding the set-aside designation for the novice applicants. The commenter further indicated that, although novice applicants may be first-time applicants for or recipients of Federal funding under the CTC program, they are not necessarily new entrants to the field of community technology.

Discussion: The Department's goal in setting aside a percentage of funding for novice applicants is to ensure that applicants with limited experience in administering Federal funds are provided an opportunity to compete for CTC funds, whatever may be their prior experience in community technology.

Changes: None.

Partnering

Comments: One commenter expressed concern regarding the requirement concerning the minimum number of participating educational entities—including LEAs and high schools—that must be engaged. Additionally, the commenter indicated that by basing the number of CTCs involved and requiring partnership with LEAs and secondary schools, the potential to focus attention on other educational groups (including middle or elementary schools) is lessened.

Discussion: We recognize the importance of serving students of other grade levels; however, we are especially concerned about issues relating to the academic achievement of high school students. Therefore, we have emphasized secondary schools within Priority 2.

Changes: None.

Novice Applicants

Discussion: As part of our internal review of the proposed priorities, we are further modifying Priority 1 to indicate that it will not apply to novice applicants. As most novice applicants are applying for Federal funding for the first time, the Department has determined that the additional time and administrative requirements of Priority 1 would be too cumbersome for novice applicants.

Changes: Yes. We are modifying Priority 1 to state specifically that it does not apply to novice applicants.

Note: This notice of final requirements, priorities, and selection criteria does not solicit applications. In any year in which we choose to use these requirements, priorities, and selection criteria, we invite applications through a notice in the Federal Register.

Requirements

The Assistant Secretary announces the following requirements for the CTC program. These requirements are in addition to the content that all Community Technology Centers grant applicants include in their applications as required by the program statute under Title V, Part D, Subpart 11, Sections 5511-13 of the ESEA.

A. Targeted Applicants

One combined competition will be conducted for both non-novice and novice applicants. The Department will rank and fund the two groups separately. At least seventy-five percent of the funds will be set-aside for non-novice applicants and up to twenty-five percent will be set-aside for novice applicants.

B. Range of Awards

The Department establishes $250,000 as the minimum award and $500,000 as the maximum award. No grant application will be considered for funding if it requests an award amount outside the funding range of $250,000 to $500,000.

C. Matching Funds Requirement

Pursuant to section 5512(c) of ESEA, as amended by the No Child Left Behind Act of 2001 (NCLB), Federal funds may not be used to pay for more than 50 percent of total CTC project costs. In order to receive a grant award under the competition, each applicant must furnish from non-Federal sources at least 50 percent of its total project costs. Applicants may satisfy this requirement in cash or in kind, fairly evaluated, including services. Each applicant must provide a dollar-for-dollar match of the amount requested from the Federal Government. An example of an allowable match would be a situation in which an applicant requested $250,000 in Federal funds (the mandatory minimum request). In that situation, the application would be required to furnish at least $250,000 in cash or in kind from non-Federal funds, fairly evaluated, resulting in a total project cost of $500,000.

Discussion of Priorities

Note: In any year in which we choose to use one or more of these priorities, we invite applications through a notice in the Federal Register. When inviting applications we designate each priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priorities

Priority 1

This priority supports projects by eligible applicants that include a partnership with a community-based organization, on the one hand, and a local educational agency (including a charter school that meets its State's definition of an LEA), or a public school or a private school, on the other hand. To meet the priority, an applicant must clearly identify the partnering agencies and include a detailed plan of their working relationship, including a project budget that reflects fund disbursements to the various partnering agencies. Thus, the Secretary gives priority to projects in which the delivery of instructional services includes:

1. A community-based organization (CBO), which may be a faith-based organization, and

2. A local educational agency (LEA) (including a charter school that meets its State's definition of an LEA), or a public school or a private school.

A CBO is not required to submit a joint application with its proposed partners when applying for funds; however, the proposed project must deliver the educational services in partnership with an LEA (including a charter school that meets its State's definition of an LEA), or a public school or a private school.

An LEA (including a charter school that meets its State's definition of an LEA) or a private school also is not required to submit a joint application with a CBO when applying for funds; however, the proposed project must deliver the educational services in partnership with a CBO.

An eligible applicant, e.g., an institution of higher education, that is not a CBO or an LEA (including a charter school that meets its State's definition of an LEA) or a private school must enter into a partnership that includes a CBO, on the one hand, and an LEA (including a charter school that meets its State's definition of an LEA), or a public school or a private school, on the other hand, in the delivery of educational services.

An individual public school is not eligible to submit an application under the CTC program in general due to the authorizing statute's general eligibility restrictions. However, an individual public school may be included as a partner in an eligible applicant's proposed project and application.

This priority does not apply to novice applicants. In any competition in which the Department establishes this priority as an absolute priority, novice applicants are not required to meet the requirements of this priority.

Priority 2

This priority supports applicants that meet the following criteria:

Applicants must state whether they are proposing a local or State project. A local project must include one or more CTCs; a State project must include two or more CTCs. In addition, the project must be coordinated with one or more LEAs (including a charter school that meets its State's definition of an LEA), or a public school or a private school that provides supplementary instruction in the core academic subjects of reading or language arts, or mathematics, to low-achieving high school students. Projects must serve students who are entering or enrolled in grades 9 through 12 and who: (1) Have academic skills significantly below grade level, or (2) have not attained proficiency on the State academic assessments conducted under Title I of the ESEA. Supplementary instruction may be delivered before or after school or at other times when school is not in session. Instruction may also be provided while school is in session, provided that it increases the amount of time students receive instruction in core academic subjects and does not require their removal from class. The instructional strategies used must be based on practices that have proven effective for improving the academic performance of low-achieving students. If these services are not provided directly by an LEA or school, they must be provided in coordination with an LEA or school. Each applicant must demonstrate how their project's proposed academic approach is aligned with the secondary school curricula of the school or schools in which the students to be served by the grant are entering or enrolled.

Priority 3

This priority supports projects whose CTC activities focus on adult education and family literacy services.

Under this priority, we give priority to projects that provide adult education and family literacy activities through technology and the Internet, including adult basic education, adult secondary education, and English literacy instruction.

Priority 4

This priority supports projects whose CTC activities focus on career development and job preparation activities. Under this priority we give priority to projects that provide career development and job preparation activities in high-demand occupational areas.

Selection Criteria

The following criteria will be used to evaluate applications submitted for grants under the CTC program.

(a) Need for the Project. In evaluating the need for the proposed project, we will consider the extent to which the proposed project will:

(1) Serve students from low-income families;

(2) Serve students entering or enrolled in high schools (9th through 12th grades) that are among the high schools in the State that have the highest numbers or percentages of students who have not achieved proficiency on the State academic assessments required by Title I of ESEA, or who have academic skills in reading or language arts, or mathematics, that are significantly below grade level;

(3) Serve students who have the greatest need for supplementary instruction, as indicated by their scores on State or local standardized assessments in reading or language arts, or mathematics, or some other local measure of performance in reading or language arts, or mathematics; and

(4) Create or expand access to information technology and related training for disadvantaged residents of distressed urban or rural communities.

(b) Quality of the Project Design. In evaluating the quality of the project design, we will consider the extent to which the proposed project will adequately and effectively investigate and incorporate in its implementation plan the following elements:

(1) Provide instructional services that will be of sufficient size, scope, and intensity to improve the academic performance of participating students;

(2) Incorporate strategies that have proven effective for improving the academic performance of low-achieving students;

(3) Implement strategies in recruiting and retaining students that have proven effective;

(4) Provide instruction that is aligned with the high school curricula of the schools in which the students to be served by the grant are entering or enrolled; and

(5) Provide high-quality, sustained, and intensive professional development for personnel who provide instruction to students.

(c) Quality of the Management Plan. In evaluating the quality of the management plan, we consider the extent to which the proposed project:

(1) Outlines specific, measurable goals, objectives, and outcomes to be achieved by the proposed project;

(2) Assigns responsibility for the accomplishment of project tasks to specific project personnel, and provides timelines for the accomplishment of project tasks;

(3) Requires appropriate and adequate time commitments of the project director and other key personnel to achieve the objectives of the proposed project; and

(4) Includes key project personnel, including the project director and other staff, with appropriate qualifications and relevant training and experience.

(d) Adequacy of Resources. In determining the adequacy of the resources for the proposed project, we consider the following factors:

(1) The adequacy of support, including facilities, equipment, supplies, and other resources, from the applicant;

(2) The extent to which a preponderance of project resources will be used for activities designed to improve the academic performance of low-achieving students in grades 9 through 12 in reading and/or mathematics;

(3) The extent to which the budget is adequate and costs are reasonable in relation to the objectives and design of the proposed project; and

(4) The potential for continued support of the project after Federal funding ends, including, as appropriate, the demonstrated commitment of appropriate entities to such support.

(e) Quality of the Evaluation. In determining the quality of the project evaluation, we consider the extent to which the application:

(1) Includes a plan that utilizes evaluation methods that are feasible and appropriate to the goals and outcomes of the project;

(2) Will regularly examine the progress and outcomes of participating students on a range of appropriate performance measures and has a plan for utilizing such information to improve project activities and instruction;

(3) Will use an independent, external evaluator with the necessary background and technical expertise to assess the performance of the project; and

(4) Effectively demonstrates that the applicant has adopted a rigorous evaluation design.

Executive Order 12866

This notice of final requirements, priorities, and selection criteria has been reviewed in accordance with Executive Order 12866. Under the terms of the order, we have assessed the potential costs and benefits of this regulatory action.

The potential costs associated with the notice of final requirements, priorities, and selection criteria are those resulting from statutory requirements and those we have determined as necessary for administering this program effectively and efficiently.

In assessing the potential costs and benefits-both quantitative and qualitative—of this notice of final requirements, priorities and selection criteria, we have determined that the benefits of the final requirements, priorities, and selection criteria justify the costs.

We have also determined that this regulatory action does not unduly interfere with State, local and tribal governments in the exercise of their governmental functions.

We summarized the costs and benefits in the notice of proposed requirements, priorities, and selection criteria.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.341A, Community Technology Centers Program)

Program Authority: 20 U.S.C. 7263-7263b.

Dated: April 12, 2004.
Susan Sclafani,
Assistant Secretary for Vocational and Adult Education.

[FR Doc. 04-8659 Filed 4-15-04; 8:45 am]

BILLING CODE 4000-01-P